DEPARTMENT OF THE INTERIOR

Fish and Wildlife Service

Environmental Document on Endangered Species Recovery Permit Application

AGENCY: Fish and Wildlife Service, Interior.

ACTION: Notice of intent.

SUMMARY: Pursuant to the National Environmental Policy Act (NEPA), this notice advises the public that the U.S. Fish and Wildlife Service (“we”) intends to prepare an environmental document (environmental assessment or environmental impact statement) for the proposed issuance of a permit to conduct non-lethal and lethal take activities with the endangered gray wolf (Canis lupus) pursuant to section 10(a)(1)(A) of the Endangered Species Act.

We solicit comments from the public, as well as local, State and Federal agencies for an environmental evaluation under NEPA of the proposed permit. Comments already received from individuals and organizations in response to the January 10, 2006, Federal Register notice of receipt of the permit application have been considered. Those respondents need not comment again unless they wish to provide new information on the permit application or environmental analysis.

DATES: Comments on this environmental analysis must be received on or before July 3, 2006.

ADDRESSES: Written data or comments should be submitted to the U.S. Fish and Wildlife Service, Chief, Endangered Species, Ecological Services, 911 NE. 11th Avenue, Portland, Oregon 97232-4181 (fax: 503-231-6243). Please refer to “Northern Idaho Wolf Permit Analysis” when submitting comments. All comments received, including names and addresses, will become part of the official administrative record and may be made available to the public.

FOR FURTHER INFORMATION CONTACT: Documents and other information associated with this analysis are available for review, subject to the requirements of the Privacy Act and Freedom of Information Act, by any party who submits a written request for a copy of such documents to the address above (telephone: 503-231-2063). Please refer to “Proposed Northern Idaho Wolf Permit Environmental Document” when requesting copies of documents.

SUPPLEMENTARY INFORMATION: The Idaho Department of Fish and Game has requested a permit to take (harass by survey, capture, handle, collar, take blood and hair samples, relocate, kill, or release) the gray wolf (Canis lupus) in conjunction with wolf management activities in the State of Idaho north of Interstate 90, for the purpose of enhancing its survival (Permit No. TE-114934).

The applicant proposes to: (a) Conduct monitoring of wolf populations; and (b) coordinate non-lethal and lethal control actions to reduce wolf conflicts with livestock and dogs. These actions are currently coordinated by the U.S. Fish and Wildlife Service (Service). Under the permit, the applicant would take on certain management responsibilities for wolves in northern Idaho. Wolf management activities would be in accordance with the requirements of the Endangered Species Act, the State of Idaho Wolf Conservation and Management Plan (March 2002) and the Service's Interim Wolf Control Plan for Northwestern Montana and the Panhandle of Northern Idaho (Control Plan) (September 1999).

If issued, the permit would not affect ongoing wolf management in the remainder of the State of Idaho conducted in accordance with the non-essential experimental population regulations found at 50 CFR 17.84(n).

We have determined that a responsive wolf management and conservation program is essential to enhancing survival of the wolf in the wild (Service 1987; Service 1994; Service 1999). The program must respond to wolf-livestock conflicts, while promoting wolf recovery objectives. The Control Plan provides guidelines for: (a) Determining problem wolf status (including investigative procedures and criteria), (b) conducting wolf control actions, and (c) disposition of problem wolves.

We are analyzing issuance of this permit under NEPA (42 U.S.C. 4321 et seq.). If issued, the permit would authorize Idaho Department of Fish and Game to manage wolves in the same manner as provided in the Control Plan in effect for northern Idaho for the past 6 years. Due to changes in the gray wolf's status since the Service's 1988 Environmental Assessment, the Service's 1999 Environmental Action Memorandum, and the Control Plan. We are initiating a new NEPA evaluation of the environmental impacts of wolf conservation under an ESA recovery permit.

Under NEPA, a reasonable range of alternatives to a proposed project must be developed and considered in our environmental review. Our NEPA evaluation will evaluate the potential impacts of alternatives for wolf conservation actions in Idaho north of Interstate 90. Management actions would be intended to protect livestock and pets, and to conserve wolf populations. The proposed action is to issue Idaho Department of Fish and Game a permit authorizing take, including lethal control techniques. An alternative will be selected and a permit decision made after consideration of all comments received in response to this Notice, and analysis is complete.

The State of Idaho Wolf Conservation and Management Plan, the Interim Wolf Control Plan for Northwestern Montana and the Panhandle of Northern Idaho, and the Idaho Department of Fish and Game permit application can be found at: http://www.fws.gov/pacific/ecoservices/endangered/recovery/GrayWolfManagement.htm.

Additional information about wolf recovery and conservation in the northwestern United States, including control of problem wolves, can be found in various reports at: http://westerngraywolf.fws.gov/.

All comments received from individuals become part of the official public record. Requests for such comments will be handled in accordance with the Freedom of Information Act (FOIA). Comments, including names and home addresses of respondents, will be available for public review, to the extent provided by the FOIA. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. We will make all submissions from organizations or businesses, and from individuals identifying themselves as representatives or officials of organizations or businesses, available for public inspection in their entirety. Comments and materials received will be available for public inspection, by appointment, during normal business hours at the above address.

Authority

This document is published under the authority of the Endangered Species Act of 1973, as amended (16 U.S.C. 1531 et seq.).

Dated: May 8, 2006.
David B. Allen,
Regional Director, Region 1, U.S. Fish and Wildlife Service.

[FR Doc. E6-8353 Filed 5-30-06; 8:45 am]

BILLING CODE 4310-55-P